DEPARTMENT OF ENERGY

Request for Information (RFI) on Partnerships for Transformational Artificial Intelligence Models

AGENCY: Office of Science, Department of Energy.

ACTION: Request for information.

SUMMARY: The U.S. Department of Energy (DOE) invites public comment on its Request for Information (RFI) regarding Partnerships for Transformational Artificial Intelligence Models. The purpose of this RFI is to solicit feedback from industry, think tanks, investors, research organizations, and other stakeholders on how DOE should best structure and enable partnerships to curate DOE scientific data across the National Laboratory complex for use in artificial intelligence (AI) models. This RFI also seeks input on using this data to develop self-improving AI models for science and engineering to advance scientific discovery, energy, and national security.

DATES: Responses to the RFI must be received by Wednesday, January 14, 2026.

ADDRESSES: Interested parties are to submit comments electronically to AICommunityInput@science.doe.gov. Include “Transformational Artificial Intelligence Models” in the subject line of the email. Only electronic responses will be accepted. The complete RFI document is located at https://sam.gov/workspace/contract/opp/18575cee90e74b11bbe963d7750408d8/view.

FOR FURTHER INFORMATION CONTACT: Questions may be addressed to Hal Finkel, Office of Science, U.S. Department of Energy, 1000 Independence Avenue SW, Washington, DC 20585-0121, (301) 903-1304, or by email at AICommunityInput@science.doe.gov. Further instructions can be found in the RFI document posted at https://sam.gov/workspace/contract/opp/18575cee90e74b11bbe963d7750408d8/view.

SUPPLEMENTARY INFORMATION: In accordance with Section 50404 of Public Law 119-21, the Department of Energy (DOE) intends to establish a public-private consortium to curate DOE scientific data across the National Laboratory complex for use in artificial intelligence (AI) models and to develop self-improving AI models for science and engineering using this data. These models must be provided to the scientific community through a system of United States government, academic, and private-sector programs and infrastructure which includes the use of cloud technologies. This historic mobilization of DOE, the National Laboratories, and private partners will serve as a force multiplier in executing America's AI Action Plan to achieve global dominance in AI, and to advance scientific discovery, energy, and national security. The RFI asks questions about how to best structure partnerships for curating scientific data for use in AI models and for developing self-improving AI models for science and engineering using DOE's data. The RFI also asks how DOE should best provide AI models to the scientific community through programs and infrastructure making use of cloud technologies. DOE intends to post non-confidential responses received. The RFI is available at https://sam.gov/workspace/contract/opp/18575cee90e74b11bbe963d7750408d8/view.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority: This document of the Department of Energy was signed on November 21, 2025, by Harriet Kung, Acting Director for the Office of Science, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 3, 2025.
Jennifer Hartzell,
Alternate Federal Register Liaison Officer, U.S. Department of Energy.

[FR Doc. 2025-22127 Filed 12-4-25; 8:45 am]

BILLING CODE 6450-01-P